DEPARTMENT OF HEALTH AND HUMAN SERVICES

Administration on Aging

Availability of Funding Opportunity Announcement

Funding Opportunity Title/Program Name: Senior Medicare Patrol Integration Projects.

Announcement Type: Initial.

Funding Opportunity: Number: HHS-2006-AoA-SM-0608.

Statutory Authority: The Older Americans Act, Public Law 106-501.

Catalog of Federal Domestic Assistance (CFDA) Number: 93.048, Title IV and Title II, Discretionary Projects, and the Health Insurance Portability and Accountability Act of 1996 (Pub. L. 104-191).

Dates: The deadline date for the receipt of applications is July 19, 2006.

I. Funding Opportunity Description

In 2004, AoA announced a new competitive grant program to support Senior Medicare Patrol (SMP) project efforts to advance collaborative and innovative approaches for integration of Medicare and Medicaid fraud awareness and prevention activities within states and communities, and to support development of models for program integration to be shared with SMP projects throughout the country. Fourteen grants were awarded for a two-year period that were designed to support the SMP projects' efforts to integrate the SMP program into other areas of health care fraud awareness. Models developed by these integration grantees, which are focused on Medicaid fraud, home health care fraud, and fraud related to the new prescription drug benefits of the Medicare Modernization Act (MMA) are being disseminated by AoA and the National Consumer Technical Support Center (the Center) to enable SMP projects to adapt these strategies to their states and target populations.

Further information may be found at http://www.aoa.gov/doingbus/fundopp/fundopp.asp or http://www.grants.gov.

SMP Program Objectives

In 2006, the Assistant Secretary for Aging approved five strategic objectives for the SMP Program. The objectives guide the development of program requirements, including grants, and the measurement of performance and program outcomes. The SMP program objectives include:

1. Foster national and statewide program coverage.

2. Improve beneficiary education and inquiry resolution for other areas of health care fraud.

3. Foster national program visibility and consistency.

4. Improve the efficiency of the SMP Program while increasing results for both operational and quality measures.

5. Target training and education to isolated and hard-to-reach populations.

Applications are sought from organizations with expertise and experience required to focus the integration of the SMP program message, outreach and materials to either a targeted population OR a targeted area of health care integrity. Criteria and requirements for the two application options are provided below. Applicants may apply under either Option I or Option II.

Option I: Targeted Health Care Integrity. This option is provided to enhance program efforts in support of SMP program objective #2, to improve beneficiary education and inquiry resolution for other areas of health care fraud. Applications are limited to existing SMP projects that were not awarded FY 2004 Integration Grant funding. This is to ensure that additional states are provided the opportunity for integration of the SMP program into other areas of health care fraud awareness.

Grantees must develop models for integrating beneficiary education, and inquiry resolution through effective partnering with new organizations in order to leverage these resources to disseminate the fraud prevention and control message. The grantee may target either one or two of the following areas for integration:

• Medicaid fraud;

• Home health care fraud;

• Durable Medical Equipment fraud; or

• Medicare Part D prescription drug benefit related fraud.

Grantees will be required to demonstrate how the proposal will advance the integration of the SMP program into the fabric of the aging and fraud prevention networks in states and communities.

Option II: Targeted Populations. This option is provided to enhance program efforts in support of SMP Program Objective #5, target training and education to isolated and hard-to-reach populations. The opportunity provided with Option II provides a new opportunity to more fully integrate beneficiary education and awareness of health care error, fraud and abuse within populations thus far generally underserved by the SMP program. These include minority, ethnically or culturally diverse, non-English speaking, tribal, isolated or rural populations, as well as others not traditionally reached, such as the homebound or long-term care residents.

Applications are sought from public/private non-profit organizations with expertise in the culture, language, and demographics of the targeted population group. Status as a current or previous SMP project grantee is not required. However, applicants must demonstrate expertise and experience in serving or representing the target population group. Knowledge of the SMP program and health care integrity issues impacting seniors is preferred but not mandatory.

II. Award Information

1. Funding Instrument Type

The award is a cooperative agreement because the Administration on Aging will be substantially involved in the development and execution of the activities of the projects. The cooperative agreement will describe training, technical assistance, and support that will be provided by AoA and the Center to the integration grantees. The cooperative agreement will also specify performance goals and criteria, as well as measures of project outcomes. The AoA project officer for the SMP project grant will provide technical assistance and support on grant management and implementation issues, including execution of the cooperative agreement.

The Administration on Aging, primarily through services of the Center, will provide technical assistance and support to the project as required and appropriate for the specific integration activities of the grantee. The Administration on Aging will conduct at least one national conference and one regional meeting in alternate years for the purpose of providing technical assistance and training to SMP projects. Participation of integration grantees in these conferences is specified as part of the cooperative agreement.

The SMP integration grantee and the Administration on Aging will work cooperatively to determine the performance goals and priority activities required by the project to achieve these goals, and develop the work plan for each year of the project. Within 45 days of the award and 45 days of each continuation award, the grantee will agree upon and adhere to a work plan that details expectations for major activities, products, and reports during the current budget period. The plan will also specify actions to integrate the specific targeted population or special area of health care fraud, as appropriate. The work plan will also include staff assignments, work locations, and other areas that require Administration on Aging consultation, review, and/or prior approval. Either the Administration on Aging or the project can propose a revision of the final work plan at any time. The Administration on Aging (AoA) will define project performance criteria and expectations, and will monitor, evaluate and support the project's efforts in achieving performance goals. AoA will provide mentoring, on-line training, and other technical support through the Center. Grantees are encouraged to contact the Center to receive information on the SMP program and specialized areas related to the integration project. The Administration on Aging will evaluate grantee performance, and provide support and technical assistance, in coordination with the Center, to assist projects in achieving performance goals.

The Administration on Aging will assist the project leadership in understanding the strategic goals and objectives, policy perspectives and priorities of the Assistant Secretary for Aging and the Department of Health and Human Services by sharing such information via e-mail, conference calls, briefings and other consultations. The Administration on Aging will also share information with the project about other SMP projects, including statewide project grants, other integration grants, and other federally sponsored projects and activities relevant to the interests of SMP projects.

Anticipated Total Priority Area Funding per Budget Period

Funding Instrument Type: Cooperative Agreement.

Anticipated Total Funding: $1.17 Million.

Individual Award Ceiling: $100,000.

Anticipated Number of Awards: Up to 14.

Length of Project Period: Up to two years.

III. Eligibility Criteria and Other Requirements

1. Eligible Applicants

Option I is limited to existing SMP projects from states not previously awarded integration grants. Integration Grants were previously awarded in: Arkansas, Idaho, Illinois, Indiana, Iowa, California, Missouri, New Jersey, Pennsylvania, Puerto Rico, Texas, and Wisconsin.

Option II is open to public and private organizations organized under IRS section 501(C)(3) with expertise and experience serving or representing the target population. Status as a current or former SMP grantee is not required. Faith-based organizations and federally financed tribes are encouraged to apply.

Existing SMP projects that submit Option I applications may not apply under Option II.

In order to ensure the program reaches Medicare/Medicaid beneficiaries in the maximum number of states, given available funding, only one project from each state or territory will be funded.

It is strongly recommended that statewide collaborative efforts be forged with organizations with experience working with or representing the targeted population.

2. Cost Sharing or Matching

Under this Older Americans Act (OAA) program, AoA will fund no more than 75% of the project's total cost, which means the applicant must cover at least 25% of the project's total cost with non-Federal resources. In other words, for every three (3) dollars received in Federal funding, the applicant must contribute at least one (1) dollar in non-Federal resources toward the project's total cost (i.e., the amount on line 18 in Attachment A). You can use this formula to calculate your minimum required match. A common error applicants make is to match 25% of the federal share, rather than 25% of the project's total cost. Match is not one of the responsiveness criteria as noted in Section III, 3 Application Screening Criteria.

3. DUNS Number

The Office of Management and Budget requires applicants to provide a Dun and Bradstreet (D&B) Data Universal Numbering System (DUNS) number when applying for Federal grants or cooperative agreements on or after October 1, 2003. It is entered on the SF 424. It is a unique, nine-digit identification number, which provides unique identifiers of single business entities. The DUNS number is free and easy to obtain. Organizations can receive a DUNS number at no cost by calling the dedicated toll-free DUNS Number request line at 1-866-705-5711 or by using this link: https://www.whitehouse.gov/omb/grants/duns_num_guide.pdf.

4. Intergovernmental Review

Executive Order 12372, Intergovernmental Review of Federal Programs, is not applicable to these grant applications.

IV. Application and Submission Information

All applicants are required to submit electronically through http://www.grants.gov by midnight July 19, 2006. Exceptions to this requirement may only be made by the AoA grants management officer, Stephen Daniels on (202) 357-3464. Exceptions may only be made to allow for catastrophic events such as tornadoes, floods, etc. Applicants are responsible for mailing or hand delivering applications to AoA in sufficient time to be received by 5:30 PM Eastern Time July 19, 2006.

Please note AoA is requiring applications for this announcement to be submitted electronically through www.grants.gov. The Grants.gov registration process can take several days. If your organization is not currently registered with www.grants.gov, please begin this process immediately. For assistance with www.grants.gov, please contact Arthur Miller at AoA's Grants.gov helpdesk at (202)357-3438. At www.grants.gov, you will be able to download a copy of the application packet, complete it off-line, and then upload and submit the application via the Grants.gov website.

Applicants unable to submit their application via www.grants.gov may request permission to submit a hard copy from AoA Grants Management Officer, Stephen Daniels, (202) 357-3464, Stephen.Daniels@aoa.hhs.gov.

1. Address for Application Submission

Hard copy submissions for which approval has been requested and received (per section IV(6) of the announcement), may be mailed to the U.S. Department of Health and Human Services, Administration on Aging, Office of Grants Management, Washington, DC 20201, attn: Stephen Daniels HHS-2006-AoA-SM-0608), or hand-delivered (in person, via messenger) to the U.S. Department of Health and Human Services, Administration on Aging, Office of Grants Management, One Massachusetts Avenue, NW., Room 4604, Washington, DC 20001, attn: Stephen Daniels (HHS-2006-AoA-SM-0608).

Applications not submitted electronically must include one original and two copies of the application. Please include a stamped self addressed postcard for acknowledgement of receipt. Instructions for electronic mailing of grant applications are available at http://www.grants.gov/.

2. Submission Dates and Times

To receive consideration, applications must be received by the deadline listed in the “Dates” section of this Notice.

V. Responsiveness Criteria

Each application submitted will be screened to determine whether it was received by the closing date and time. Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria: Purpose and Need for Assistance (20 points); Approach, Work Plan and Activities (30 points); Project Outcomes, Evaluation and Dissemination (30 points); and Level of Effort (20 points).

VII. Agency Contacts

Direct inquiries regarding programmatic and grant issues to:

Project Officer

U.S. Department of Health and Human Services, Administration on Aging, Washington, DC 20201, Attn: Barbara Lewis, Telephone: (202) 357-3532, e-mail: Barbara.Lewis@aoa.hhs.gov.

Grants Management Specialist

U.S. Department of Health and Human Services, Administration on Aging, Washington, DC 20201, Attn: Stephen Daniels, Telephone: (202) 357-3464, e-mail: Stephen.Daniels@aoa.hhs.gov.

Dated: May 24, 2006.
Josefina G. Carbonell,
Assistant Secretary for Aging.

[FR Doc. E6-8365 Filed 5-30-06; 8:45 am]

BILLING CODE 4154-01-P